DEPARTMENT OF VETERANS AFFAIRS

Advisory Committee on Cemeteries and Memorials; Notice of Meeting

The Department of Veterans Affairs (VA) gives notice under Public Law 92-463 (Federal Advisory Committee Act) that a meeting of the Advisory Committee on Cemeteries and Memorials will be held October 28-31, 2002, at the Department of Veterans Affairs Central Office, 810 Vermont Avenue, NW., Washington, DC. On October 28, the meeting will be held in Room 930 beginning at 9 a.m. and concluding at 3:30 p.m. On October 29 and 30, the meeting will be held in Room 630, and at several cemetery sites, beginning at 8 a.m. and concluding at 5 p.m. On October 31, the meeting will be held in Room 930 beginning at 8 a.m. and concluding at noon. The meeting is open to the public.

The purpose of the Committee is to advise the Secretary of Veterans Affairs on the administration of national cemeteries, soldiers' lots and plots, and the selection of new national cemetery sites, the erection of appropriate memorials, and the adequacy of Federal burial benefits. The Committee will make recommendations to the Secretary regarding these activities.

On October 28, new appointees to the Committee will receive an orientation briefing on the VA, the National Cemetery Administration (NCA), the Federal Advisory Committee Act (FACA), and their roles and responsibilities as Committee members. On October 29, the Committee will receive updates on NCA's “National Shrine Commitment” as it relates to historic preservation issues. The Committee will travel to Baltimore and Loudon Park National Cemeteries to view monuments and structures at those two historic cemeteries. On October 30, the Committee will be briefed on new cemetery construction, the State Cemetery Grants Program, legislative initiatives, and other issues related to the administration and maintenance of national cemeteries. The Committee will also visit Arlington National Cemetery. On October 31, the Committee will conclude with discussions of any unfinished business, make program recommendations, and future meeting sites and agenda topics.

Any member of the public wishing to attend the meeting is requested to contact Ms. Paige Lowther, Designated Federal Officer, at (202) 273-5164. The Committee will accept written comments. Comments can be transmitted electronically to the Committee at paige.lowther@mail.va.gov or mailed to National Cemetery Administration (40), 810 Vermont Avenue, NW., Washington, DC 20420. In the letter, the writers must identify themselves and state the organizations, associations or person(s) they represent.

Dated: September 27, 2002.
Nora E. Egan,
Committee Management Officer.

[FR Doc. 02-25497 Filed 10-7-02; 8:45 am]

BILLING CODE 8320-01-M